COMMISSION ON CIVIL RIGHTS

Notice of Public Meeting of the Florida Advisory Committee to the U.S. Commission on Civil Rights

AGENCY: U.S. Commission on Civil Rights.

ACTION: Announcement of web briefings.

SUMMARY: Notice is hereby given, pursuant to the provisions of the rules and regulations of the U.S. Commission on Civil Rights (Commission) and the Federal Advisory Committee Act, that the Florida Advisory Committee (Committee) to the U.S. Commission on Civil Rights will hold a series of web briefings at 2:00 p.m. ET on Monday, March 28, 2022, and Friday, April 29, 2022, to hear testimony regarding the civil rights implications of recent legislative changes to Florida's election laws, followed by access to early voting, and vote-by-mail procedures.

DATES: The briefings will take place via Webex on:

—Monday, March 28, 2022, from 2:00 p.m.-4:00 p.m. ET

• To join by web conference, register at https://tinyurl.com/2p9ed5cx

• To join by phone (audio only), dial (800) 360-9505 USA Toll Free; access code: 2762 199 2880

—Friday, April 29, 2022, from 2:00 p.m.-4:00 p.m. ET

• To join by web conference, register at https://tinyurl.com/3vfnbpsr

• To join by phone (audio only), dial (800) 360-9505 USA Toll Free; access code: 2760 579 0577

FOR FURTHER INFORMATION CONTACT: Mallory Trachtenberg, DFO, at mtrachtenberg@usccr.gov or (202) 809-9618.

SUPPLEMENTARY INFORMATION: Committee meetings are available to the public through the conference link above. Any interested member of the public may listen to the meeting. An open comment period will be provided to allow members of the public to make a statement as time allows. If joining via phone, callers can expect to incur regular charges for calls they initiate over wireless lines, according to their wireless plan. The Commission will not refund any incurred charges. Individuals who are deaf, deafblind, and hard of hearing may also follow the proceedings by first calling the Federal Relay Service at (800) 877-8339 and providing the Service with the conference details found through registering at the web link above. To request additional accommodations, please email mtrachtenberg@usccr.gov at least seven (7) business days prior to the meeting.

Members of the public are also entitled to submit written comments; the comments must be received in the regional office within 30 days following the meeting. Written comments may be emailed to Liliana Schiller at lschiller@usccr.gov. Persons who desire additional information may contact the Regional Programs Coordination Unit at (202) 809-9618.

Records generated from this meeting may be inspected and reproduced at the Regional Programs Coordination Unit, as they become available, both before and after the meeting. Records of the meeting will be available via www.facadatabase.gov under the Commission on Civil Rights, Florida Advisory Committee link. Persons interested in the work of this Committee are directed to the Commission's website, http://www.usccr.gov, or may contact the Regional Programs Coordination Unit at the above phone number.

Agenda

I. Welcoming Remarks

II. Panelist Presentations and Committee Q&A

III. Public Comment

IV. Closing Remarks

V. Adjournment

Dated: March 2, 2022.
David Mussatt,
Supervisory Chief, Regional Programs Unit.

[FR Doc. 2022-04837 Filed 3-7-22; 8:45 am]

BILLING CODE P